NATIONAL SCIENCE FOUNDATION

National Science Foundation Information Quality Guidelines; Draft Notice and Request for Comment

AGENCY: National Science Foundation.

ACTION: Notice.

SUMMARY: the Office of Management and Budget (OMB) issued government-wide guidelines under section 515 of the Treasury and General Government Appropriations Act for Fiscal Year 2001 (Public Law 106-554) to ensure and maximize the quality, objectivity, utility and integrity of information disseminated by Federal agencies. OMB's guidelines were published in the Federal Register on September 28, 2001 (66 FR 49718), and updated on January 3, 2002 (67 FR 369). A supplemental version of the guidelines was published in the Federal Register February 22, 2002 (67 FR 8452). Each Federal agency is responsible for issuing its own section 515 guidelines. As a result, The National Science Foundation has developed corresponding information quality guidelines. The full draft guidelines will be found at the National Science Foundation's Web site at http://www.nsf.gov/home/pubinfo/infoqual.htm on May 1, 2002.

DATES: Comments should be received no later than June 3, 2002, to receive full consideration.

ADDRESSES: Comments may be submitted via electronic mail to infoqua1515@nsf.gov, via mail to Section 515 Information Quality Officer; 4201 Wilson Blvd., Suite 305; Arlington, VA 22230; or via fax to (703) 292-9084.

FOR FURTHER INFORMATION CONTACT: Frederic J. Wendling; Information Quality Guidelines, Room 905; 4201 Wilson Boulevard; Arlington, VA 22230. Telephone: 703-292-8741. E-mail: fwendlin@nsf.gov.

Dated: April 22, 2002.
Suzanne H. Plimpton,
Reports Clearance Officer, National Science Foundation.

[FR Doc. 02-10546 Filed 4-30-02; 8:45 am]

BILLING CODE 7555-01-M